DEPARTMENT OF THE INTERIOR

Bureau of Land Management

[LLNM932000.L1430000 ES0000; OKNM-119333]

Notice of Realty Action: Recreation and Public Purposes Act Classification of Public Land, Comanche County, Oklahoma

AGENCY: Bureau of Land Management, Interior.

ACTION: Notice of Realty Action.

SUMMARY: The Bureau of Land Management (BLM) has examined and found suitable for classification for lease and/or conveyance under the provisions of the Recreation and Public Purposes (R&PP) Act, as amended, approximately 8.45 acres of public land in Comanche County, Oklahoma. The Town of Medicine Park proposes to use the land for a public recreational park.

DATES: Interested parties may submit written comments to the BLM at the address stated below. Comments must be received by no later than February 27, 2012.

ADDRESSES: Comments may be submitted to Steve Tryon, Bureau of Land Management, Oklahoma Field Office, 7906 W. 33rd Street, Suite 101, Tulsa, OK 74133.

FOR FURTHER INFORMATION CONTACT: Gilda Fitzpatrick, Realty Specialist, P.O. Box 27115, Santa Fe, New Mexico 87502-0115, by phone at (505) 954-2197, or by email at gfitzpat@blm.gov. Persons who use a telecommunications device for the deaf (TDD) may call the Federal Information Relay Service (FIRS) at 1-(800) 877-8339 to contact the above individual during normal business hours. The FIRS is available 24 hours a day, 7 days a week, to leave a message or question with the above individual. You will receive a reply during normal business hours.

SUPPLEMENTARY INFORMATION: The following described public land in Comanche County, Oklahoma, has been examined and found suitable for classification for lease and/or conveyance under the provisions of the R&PP Act of June 14, 1926, as amended (43 U.S.C. 869 et seq.) and 43 CFR part 2740. The parcel of land is described as:

Indian Meridian

T. 3 N., R. 12 W.,

Sec. 19, that portion of the N½ of the NE¼, in Comanche County, Oklahoma being more particularly described by metes bounds as follows:

Beginning at a point being the intersection of the north boundary line of said Section 19 with the center line of Medicine Bluff Creek, said point being 1820 feet west of the Northeast corner of said Section 19, N89°46′28″ W; Thence southeastwardly with the center line of said Creek N40°34′08″ E a distance of 779.20 feet to its intersection with the North right-of-way line of Oklahoma State Highway No. 49; Thence northwestwardly with said right-of-way line N83°59′09″ W a distance of 271.57 feet; Thence continuing northwestwardly with said right-of-way line on a curve to the right having a radius of 1372.69 feet for a distance of 863.68 feet; Thence continuing northwestwardly with said right-of-way line N42°03′51″ E a distance of 20.00 feet; Thence continuing northwestwardly with said right-of-way line N47°56′09″ W a distance of 306.74 feet to the north line of said Section 19; Thence east with said north line S89°46′28″ E a distance of 753.48 feet to the point of beginning.

The area described contains 8.45 acres, more or less.

In accordance with the R&PP Act, the Town of Medicine Park has filed an application and plan of development in which it proposes to use the above described public land for development of a recreation park. The land is not needed for any other Federal purpose. The classification for lease and or conveyance pursuant to the R&PP Act is consistent with the Oklahoma Resource Management Plan, dated January 12, 1994, and is in the public interest. Detailed information concerning the proposed actions, including but not limited to documentation relating to compliance with applicable environmental and cultural resource laws, is available for review at the BLM, Oklahoma Field Office, 1906 E. 33rd Street, Suite 101, 74145, telephone: (918) 621-4100.

The lease and/or conveyance will be subject to the provisions of the R&PP Act, applicable regulations of the Secretary of the Interior, and will be subject to the following terms, conditions, and reservations:

1. Reservation of a right-of-way to the United States for ditches and canals pursuant to the Act of August 30, 1890, 43 U.S.C. 945;

2. All minerals shall be reserved to the United States, together with the right to prospect for, mine and remove the minerals under applicable laws and regulations established by the Secretary of the Interior;

3. The land conveyed shall revert to the United States upon a finding, and after notice and opportunity for a hearing, that the patentee has not substantially developed the land in accordance with the approved plan of development on or before the date 5 years after the date of conveyance. No portion of the land shall under any circumstance revert to the United States if any such portion has been used for solid waste disposal or for any other purpose which may result in the disposal, placement, or release of any hazardous substance; and

4. All valid existing rights of record, including those documented on the official public land records at the time of lease and/or patent issuance.

On December 28, 2011, the above described lands will be segregated from settlement, sale, location and entry under the general land laws, including the United States mining laws, except for lease and/or conveyance under the R&PP Act and leasing under the mineral leasing laws.

Interested parties may submit comments involving the suitability of the lands for lease and/or conveyance for the public recreation park. Comments on the classification are restricted to whether the land is physically suited for the proposal, whether the use will maximize the future use or uses of the land, whether the use is consistent with local planning and zoning, or if the use is consistent with State and Federal programs.

Interested parties may submit comments regarding the specific use proposed in the application and plan of development, whether the BLM followed proper administrative procedures in reaching the decision to lease and/or convey under the R&PP Act, or any other factor not directly related to the suitability of the land for a recreational park.

Before including your address, phone number, email address, or other personal identifying information in your comment, you should be aware that your entire comment—including your personal identifying information—may be made publicly available at any time. While you can ask us in your comment to withhold your personal identifying information from public review, we cannot guarantee that we will able to do so. In the absence of any adverse comments, the classification of the land described in this notice will become effective on February 27, 2012. The land will not be available for lease and/or conveyance until after the classification becomes effective.

Authority: 43 CFR 2741.5(h).

Debby Lucero,
Acting Deputy State Director.

[FR Doc. 2011-33239 Filed 12-27-11; 8:45 am]

BILLING CODE 4310-FB-P